DEPARTMENT OF JUSTICE

Office of Justice Programs

[OJP (NIJ) Docket No. 1704]

Contraband Detection Market Survey

AGENCY: National Institute of Justice (NIJ), Justice.

ACTION: Notice of request for information.

SUMMARY: The NIJ is soliciting information in support of the upcoming National Criminal Justice Technology Research, Test, and Evaluation Center (NIJ RT&E Center) “Market Survey of Contraband Detection Technologies.” This market survey, which will identify commercially available contraband detection systems for use in corrections facilities, will be published by NIJ to assist purchasing agents or other representatives of corrections facilities in their assessment of relevant information prior to making purchasing decisions. Comments with regard to the market survey itself, including which categories of information are appropriate for comparison, as well as promotional material (e.g., slick sheets) and print-quality images in electronic format, are also invited.

DATES: Responses to this request will be accepted through 11:59 p.m. Eastern Standard Time on February 15, 2016.

ADDRESSES: Responses to this request may be submitted electronically in the body of, or as an attachment to, an email sent to administrator@nijrtecenter.org with the recommended subject line “Contraband Federal Register Response.” Questions and responses may also be sent by mail (please allow additional time for processing) to the following address: National Criminal Justice Technology Research, Test and Evaluation Center, ATTN: Contraband Federal Register Response, Johns Hopkins University Applied Physics Laboratory, 11100 Johns Hopkins Road, Mail Stop 17-N444, Laurel, MD 20723-6099.

FOR FURTHER INFORMATION: For more information on this request, please contact Rebecca Koslover (NIJ RT&E Center) by telephone at 443-778-1643 or administrator@nijrtecenter.org. For more information on the NIJ RT&E Center, visit http://nij.gov/funding/awards/Pages/award-detail.aspx?award=2013-MU-CX-K111 and view the description, or contact Jack Harne (NIJ) by telephone at 202-616-2911 or at Jack.Harne@usdoj.gov. Please note that these are not toll-free telephone numbers.

SUPPLEMENTARY INFORMATION: Information Sought: Information is sought for an upcoming “Market Survey of Contraband Detection Technologies,” which seeks to identify commercially available contraband detection systems for use in corrections facilities. Applicable technologies should be capable of detecting contraband types in one or more of the following categories: (1) Weapons; (2) drug paraphernalia; (3) cell phones (or other mobile devices); and (4) forms of currency (e.g., money, stamps, etc.). In addition to these categories of contraband types, NIJ seeks to identify systems capable of detecting contraband under the following conditions: (1) Person-borne; (2) vehicle-borne; and (3) environmental.

The person-borne category seeks to identify technology that is capable of detecting contraband concealed either on a person, or within body cavities. The vehicle-borne category seeks to identify technology that is capable of detecting contraband concealed in vehicles (e.g., passenger cars, delivery trucks, etc.) entering and leaving correctional facilities. Lastly, the environmental category seeks to identify technology that is capable of detecting contraband concealed in the environment (e.g., walls, furniture, etc.).

Usage: This market survey will be published by NIJ to assist corrections agencies in their assessment of relevant information prior to making purchasing decisions.

Information Categories: Comments are invited with regard to the market survey, including which categories of information are appropriate for comparison, as well as promotional material (e.g., slick sheet) and print-quality photographs of the technology. At a minimum, the Center intends to include the following categories of information for each Contraband Detection technology that may be of use in corrections facilities:

1. Vendor Information

a. Name

b. Address and phone number of corporate office

c. Web site

d. Years your company has been in business

e. Number and types of customers (e.g., state, local, or federal corrections)

f. Location where technology is manufactured, assembled, or refurbished

2. Product Information—Person-Borne Contraband Detection

a. Name and model number

b. Primary purpose of product

c. Physical dimensions (height × width × depth, in inches) of device

d. Operational dimensions (i.e., limitations to the detection area)

e. Weight (in pounds and ounces) of device

f. Portability (e.g., fixed, portable, or handheld)

g. Intended environment (e.g., indoor use only? Indoor/outdoor use?)

h. Operating conditions or limitations (e.g., temperature, humidity, etc.)

i. Ability of the system/device to detect metal objects

i. Types of metals that are detected by the system

ii. Types of metals that are not detected by the system

j. Ability of the system/device to detect non-metal objects

i. Types of non-metal materials that can be detected by the system/device (e.g., liquids, gels, plastic, wood, ceramic, powder, paper, currency, etc.)

k. Ability of the system/device to detect objects concealed within a body cavity

i. Types of body cavities that are covered by the system/device

l. Ability of the system/device to detect other types of contraband and related material not specifically listed here (i.e., potential next generation contraband detection)

m. Modes of operation (e.g., settings for detecting different materials)

n. Number of detection areas (e.g., ability to simultaneous detect threats)

o. Type of detector used (e.g., transmission x-ray, active millimeter wave, pulse induction detector, continuous wave detector, passive, etc.)

p. Minimum size of objects that can be detected (length × width × height in inches, or weight in pounds and ounces)

i. On a person

ii. Concealed within body cavities

q. Total inspection time per individual screened with the system/device (seconds/person)

r. Penetration depth of the system/device's scan when used on a clothed person (in inches)

s. Alert/alarm mechanism (e.g., alarm only, body location alarm, anomaly image, body region image, full body image, etc.)

t. Average time (in seconds) to process/generate an alarm

u. Privacy safeguards or features (e.g., remote viewing, body masking)

v. Number of recommended operators

w. Safeguards for cyber security, unintentional disassembly, jamming, or intentional damage

x. Sturdiness/fragility of the technology material

y. Ability for easy storage when not in use

z. Data management with respect to saving, archiving, retrieving, and printing subject scan information

aa. Onboard memory storage (e.g., quantity of data that can be stored on device in number of files/alerts/days activity)

bb. Power requirements (e.g., 120 volts)

cc. Battery discharge time (hours of continuous operation before needing a charge), if applicable

dd. Battery shelf life (in months), if applicable

ee. Battery recharge time (hours required to fully charge battery after complete discharge), if applicable

ff. Battery replacement procedure and where it must be done (e.g., field or factory), if applicable

gg. Availability of supplemental charger for emergency battery charging (e.g., hand crank, backup battery, solar, etc.), if applicable

hh. Regulatory and Compliance safety requirements (e.g., FCC approved) and/or NIJ Compliance (e.g., NIJ Standard 0602.02, and 0601.02)

ii. Radiation safety standards (e.g., ANSI, ICRP, NCRP, EURATOM, etc.), if applicable

jj. Length of warranty (in months) that comes standard with the system/device and the components that are covered

kk. Auxiliary equipment (e.g., car chargers, emergency chargers, etc.)

ll. Manufacturer suggested retail price (MSRP) without optional features, accessories or service plans

mm. Availability of extended maintenance plans

nn. Service contract costs

oo. Other information or notes that are relevant to the system/device

3. Product Information—Vehicle-Borne Contraband Detection

a. Name and model number

b. Primary purpose of product

c. Physical dimensions (height × width × depth, in inches) of device

d. Operational dimensions (i.e., limitations to the detection area)

e. Weight (in pounds and ounces) of device

f. Portability (e.g., fixed, portable, or handheld)

g. Operating conditions or limitations (e.g., temperature, humidity, etc.)

h. Ability of the system/device to detect explosives, firearms, or other weapons

i. Ability of the system/device to detect narcotics, alcohol, or other chemicals

j. Ability of the system/device to detect people or animals

k. Ability of the system/device to detect other types of contraband and related material not specifically listed here (i.e., potential next generation contraband detection)

l. Modes of operation (e.g., settings for detecting different materials)

m. Number of detection areas (e.g., ability to simultaneous detect threats)

n. Type of detector used (e.g., transmission x-ray, active millimeter wave, pulse induction detector, continuous wave detector, passive, etc.)

o. Minimum size of objects that can be detected (length × width × height in inches, or weight in pounds and ounces) in and underneath a vehicle

p. Total inspection time per vehicle screened with the system/device (seconds/vehicle)

q. Alert/alarm mechanism (e.g., alarm only, vehicle location alarm, anomaly image, vehicle region image, full vehicular image, etc.)

r. Average time (in seconds) to process/generate an alarm

s. Number of recommended operators

t. Safeguards for cyber security, unintentional disassembly, jamming, or intentional damage

u. Sturdiness/fragility of the technology material

v. Ability for easy storage when not in use

w. Data management with respect to saving, archiving, retrieving, and printing vehicle scan information

x. Onboard memory storage (e.g., quantity of data that can be stored on device in number of files/alerts/days activity)

y. Power requirements (e.g., 120 volts)

z. Battery discharge time (hours of continuous operation before needing a charge), if applicable

aa. Battery shelf life (in months), if applicable

bb. Battery recharge time (hours required to fully charge battery after complete discharge), if applicable

cc. Battery replacement procedure and where it must be done (e.g., field or factory), if applicable

dd. Availability of supplemental charger for emergency battery charging (e.g., hand crank, backup battery, solar, etc.), if applicable

ee. Regulatory and Compliance safety requirements (e.g., FCC approved) and/or NIJ Compliance (e.g., NIJ Standard 0602.02, and 0601.02)

ff. Radiation safety standards (e.g., ANSI, ICRP, NCRP, EURATOM, etc.), if applicable

gg. Length of warranty (in months) that comes standard with the system/device and the components that are covered

hh. Auxiliary equipment (e.g., emergency chargers, etc.)

ii. Manufacturer suggested retail price (MSRP) without optional features, accessories or service plans

jj. Availability of extended maintenance plans

kk. Service contract costs

ll. Other information or notes that are relevant to the system/device

4. Product Information—Environmental Contraband Detection

a. Name and model number

b. Primary purpose of product

c. Physical dimensions (height × width × depth, in inches) of device

d. Operational dimensions (i.e., limitations to the detection area)

e. Weight (in pounds and ounces) of device

f. Portability (e.g., fixed, portable, or handheld)

g. Operating conditions or limitations (e.g., temperature, humidity, etc.)

h. Ability of the system/device to detect metal objects

i. Types of metals that are detected by the system

ii. Types of metals that are not detected by the system

i. Ability of the system/device to detect non-metal objects

i. Types of non-metal materials that can be detected by the system/device (e.g., liquids, gels, plastic, wood, ceramic, powder, paper, currency, etc.)

j. Ability of the system/device to detect other types of contraband and related material not specifically listed here (i.e., potential next generation contraband detection)

k. Modes of operation (e.g., settings for detecting different materials)

l. Number of detection areas (e.g., ability to simultaneous detect threats)

m. Type of detector used (e.g., transmission x-ray, active millimeter wave, pulse induction detector, continuous wave detector, passive, etc.)

n. Minimum size of objects that can be detected (length × width × height in inches, or weight in pounds and ounces)

o. Maximum size of objects that can be detected (length × width × height in inches, or weight in pounds and ounces)

p. Alert/alarm mechanism (e.g., alarm only, anomaly image, full picture image, etc.)

q. Average time (in seconds) to process/generate an alarm

r. Number of recommended operators

s. Safeguards for cyber security, unintentional disassembly, jamming, or intentional damage

t. Sturdiness/fragility of the technology material

u. Ability for easy storage when not in use

v. Data management with respect to saving, archiving, retrieving, and printing scan information

w. Onboard memory storage (e.g., quantity of data that can be stored on device in number of files/alerts/days activity)

x. Power requirements (e.g., 120 volts)

y. Battery discharge time (hours of continuous operation before needing a charge), if applicable

z. Battery shelf life (in months), if applicable

aa. Battery recharge time (hours required to fully charge battery after complete discharge), if applicable

bb. Battery replacement procedure and where it must be done (e.g., field or factory), if applicable

cc. Availability of supplemental charger for emergency battery charging (e.g., hand crank, backup battery, solar, etc.), if applicable

dd. Regulatory and Compliance safety requirements (e.g., FCC approved) and/or NIJ Compliance (e.g., NIJ Standard 0602.02, and 0601.02)

ee. Radiation safety standards (e.g., ANSI, ICRP, NCRP, EURATOM, etc.), if applicable

ff. Length of warranty (in months) that comes standard with the system/device and the components that are covered

gg. Auxiliary equipment (e.g., car chargers, emergency chargers, etc.)

hh. Manufacturer suggested retail price (MSRP) without optional features, accessories or service plans

ii. Availability of extended maintenance plans

jj. Service contract costs

kk. Other information or notes that are relevant to the system/device

5. Usability/Training

a. Types of processes used to ensure usability of hardware and software products (e.g., requirements gathering, observation, task analysis, interaction design, usability testing, ergonomics, etc.)

b. Types of data gathered from the user community (e.g., interviews, observations during hands-on training, survey, satisfaction surveys, repeat customers, etc.) to evaluate your products, and how often it is collected

c. Types of user-group meetings and frequency of their occurrence

d. Categories of problems reported to vendor and percentage of user community that experienced them within the last three (3) years

i. Resolution(s) to the problems identified above

e. Hours of technology support and location (e.g., telephone or at agency)

f. Calibration requirements (e.g., cost, methodology, hours required)

g. Hours and type of training provided (e.g., on-site, web-based, pre-recorded, play environment etc.)

6. Features and Functions

a. Types of reports that are available (e.g., standard information examples, extent that reports are customizable, etc.)

b. Types of on-demand custom reports

7. Performance and Security

a. Average time to install and activate device (in minutes, hours, or days)

b. False positive (alert generated when it should not have been) and false negative (alert was not generated when it should have been) rates

c. Mean time to failure

d. Percent availability versus downtime of the device

e. Data protection mechanism while in transit and during storage (e.g., SSL, encryption, password strength, etc.)

f. Types of database change record maintenance practices for historical data

Nancy Rodriguez,
Director, National Institute of Justice.

[FR Doc. 2016-00503 Filed 1-12-16; 8:45 am]

BILLING CODE 4410-18-P